ENVIRONMENTAL PROTECTION AGENCY

[ER-FRL-9037-1]

Environmental Impact Statements; Notice of Availability

Responsible Agency: Office of Federal Activities, General Information (202) 564-7146 or http://www2.epa.gov/nepa.

Weekly receipt of Environmental Impact Statements Filed 01/01/2018 Through 01/05/2018

Pursuant to 40 CFR 1506.9.

Notice

Section 309(a) of the Clean Air Act requires that EPA make public its comments on EISs issued by other Federal agencies. EPA's comment letters on EISs are available at: http://cdxnodengn.epa.gov/cdx-nepa-public/action/eia/search.

EIS No. 20180000, Final, USDA, ID, Winschell Dugway Motorized Trail Project, Review Period Ends: 02/26/2018, Contact: Jessica Taylor 208-557-5837.

Dated: January 9, 2018.
Kelly Knight,
Director, NEPA Compliance Division, Office of Federal Activities.

[FR Doc. 2018-00450 Filed 1-11-18; 8:45 am]

BILLING CODE 6560-50-P